DEPARTMENT OF THE INTERIOR

National Park Service

Gettysburg National Military Park Advisory Commission

AGENCY: National Park Service, Interior.

ACTION: Notice of June 14, 2007 and October 4, 2007 meetings.

SUMMARY: This notice sets forth the date of the June 14, 2007 and October 4, 2007 meetings of the Gettysburg National Military Park Advisory Commission.

DATE: The public meetings will be held on June 14, 2007 and October 4, 2007 from 7 a.m. to 9 p.m.

Location: The meetings will be held at the Cyclorama Auditorium, 125 Taneytown Road, Gettysburg, Pennsylvania 17325.

Agenda: The June 14, 2007 meeting in addition to the following consists of Nomination of Chairperson and Vice-Chairperson for the 2007 Year, then at both the June 14, 2007 and October 4, 2007 meetings there will be Sub-Committee Reports from the Historical, Executive, and Interpretive Committees; Federal Consistency Reports Within the Gettysburg Battlefield Historic District; Operational Updates on Park Activities which include an update on the new Visitor Center/Museum Complex, also on the Wills House project, Landscape Rehabilitation, and the Shuttle System; and the Citizen's Open Forum where the public make comments and ask any questions on any park activity.

FOR FURTHER INFORMATION CONTACT: John A. Latschar, Superintendent, Gettysburg National Military Park, 97 Taneytown Road, Gettysburg, Pennsylvania 17325.

SUPPLEMENTARY INFORMATION: The meetings will be open to the public. Any member of the public may file with the Commission a written statement concerning agenda items. The Statement should be addressed to the Gettysburg National Military Park Advisory Commission, 97 Taneytown Road, Gettysburg, Pennsylvania 17325.

Dated: March 9, 2007.
Dr. John A. Latschar,
Superintendent, Gettysburg NMP/Eisenhower NHS.

[FR Doc. 07-1864 Filed 4-13-07; 8:45 am]

BILLING CODE 4310-JT-M